DEPARTMENT OF HEALTH AND HUMAN SERVICES

National Committee on Vital and Health Statistics; Meeting Standards Subcommittee

Pursuant to the Federal Advisory Committee Act, the Department of Health and Human Services (HHS) announces the following advisory committee meeting.

Name: National Committee on Vital and Health Statistics (NCVHS) Subcommittee on Standards

Time and Date: February 26, 2015, 8:30 a.m.-5:00 p.m. EST

Place: U.S. Department of Health and Human Services, Centers for Disease Control and Prevention, National Center for Health Statistics, 3311 Toledo Road, Auditorium A and B, Hyattsville, Maryland 20782, (301) 458-4524.

Status: Open.

Purpose: The purpose of this hearing is to review and discuss the current status of selected administrative simplification topics of interest to the National Committee on Vital and Health Statistics.

The objectives of this hearing will be to (1) review, discuss and consider for recommendations the operating rules presented for adoption for four HIPAA transactions—Health Care Claims, Enrollment/Disenrollment, Premium Payment, and Prior Authorization; and (2) discuss and consider suggestions of the Review Committee evaluation criteria for existing standards, code sets, identifiers, and operating rules.

Contact Person for More Information: Debbie M. Jackson, Acting Executive Secretary, NCVHS, National Center for Health Statistics, Centers for Disease Control and Prevention, 3311 Toledo Road, Room 2339, Hyattsville, Maryland 20782, telephone (301) 458-4614 or Terri Deutsch, Centers for Medicare and Medicaid Services, Office of E-Health Standards and Services, 7500 Security Boulevard, Baltimore, Maryland 21244, telephone (410) 786-9462. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: January 22, 2015.
James Scanlon,
Deputy Assistant Secretary for Planning and Evaluation (Science and Data Policy), Office of the Assistant Secretary for Planning and Evaluation.

[FR Doc. 2015-01537 Filed 1-27-15; 8:45 am]

BILLING CODE 4151-05-P